DEPARTMENT OF THE INTERIOR

Bureau of Land Management

[WO-350-1430-PF-01-21 1A]

Extension of Approved Information Collection, OMB Number 1004-0009

AGENCY: Bureau of Land Management, Interior.

ACTION: Notice and request for comments.

SUMMARY: In accordance with the Paperwork Reduction Act of 1995, the Bureau of Land Management (BLM) is announcing its intention to request extension of an existing approval to collect certain information from applicants who wish to acquire a Land Use Authorization (Form 2920-1) on public lands under the Federal Land Policy and Management Act (FLPMA) of 1976. The regulations at 43 CFR 2920 provide for non-Federal use of bureau administered land via lease or permit. Uses include agriculture, trade, or manufacturing concerns and business uses such as outdoor recreation concession. BLM will determine the validity of uses proposed by private individuals and other qualified proponents from information provided by the proponent on the Land Use Application and Permit Form.

DATES: You must submit your comments to BLM at the appropriate address below on or before February 9, 2001. BLM will not necessarily consider any comments received after the above date.

ADDRESSES: Comments may be mailed to: Regulatory Affairs Group (630), Bureau of Land Management, 1849 C Street NW, Room 401LS, Washington, DC 20240.

Comments may be sent via Internet to: WOComment@blm.gov. Please include “ATTN: 1004-0009” and your name and return address in your Internet message.

Comments may be hand-delivered to the Bureau of Land Management, Administrative Record, Room 401, 1620 L Street, NW, Washington, DC.

Comments will be available for public review that the L Street address during regular business hours (7:45 a.m. to 4:15 p.m.), Monday through Friday.

FOR FURTHER INFORMATION CONTACT: Alzata L. Ransom, Realty Use Group, on (202) 452-7772 (Commercial or FTS). Persons who use a telecommunications device for the deaf (TDD) may call the Federal Information Relay Service (FIRS) at 1-800-8330, 24 hours a day, seven days a week, to contact Ms. Ransom.

SUPPLEMENTARY INFORMATION: 5 CFR 1320.12(a) requires BLM to provide 60-day notice in the Federal Register concerning a collection of information contained in regulations found in 43 CFR 2920 to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget under 44 U.S.C. 3501 et seq. The FLPMA of 1976 (43 U.S.C. 1732, 1740), provides for issuance of land use authorization which may include leases or permits, to eligible proponents. The BLM has implemented the provisions of this requirement through the issuance of 43 CFR 2922.2-1 which provides for the submission of the “Land Use Application and Permit,” or application, Form 2920-1. BLM uses the information collected on the application to identify the proposed land use and activities, describe all facilities for which authorization is sought, to identify the location, to determine a schedule for construction and to identify access requirements. Since the information collected is unique to each application, no other suitable means of information collection has been identified which could gather the information at a lesser burden. If the BLM fails to properly collect the required information, the BLM will reject the application. Based on BLM's experience administering the activities described above, we receive approximately 620 applications (577 Permits, 43 Leases) annually. It takes an average of 30 minutes for over 94 percent of the applicants to supply the needed information. For the other 6 percent of the applicants who are applying for leases, the average burden is 121 hours to supply the necessary information. The range in burden hours is due to the fact that a lease application, because of its nature, requires more time on the part of an applicant to supply the needed information. For example, a lease application to construct a multi-million dollar ski facility could involve construction drawings, site and facility plans, other Federal and State licenses and permits, and other pre-authorizing requirements involving many days to process. Conversely, a relatively routine application (permit) to use public lands for agricultural purposes could be processes in 30 minutes. The estimated total annual burden on new respondents is about 5,955 hours.

BLM will summarize all responses to this notice and include them in the request for Office of Management and Budget approval. All comments will also become a matter of public record.

Dated: December 5, 2000.
Michael Schwartz,
BLM Information Collection Clearance Officer.

[FR Doc. 00-31362 Filed 12-8-00; 8:45 am]

BILLING CODE 4310-84-M